DEPARTMENT OF HOMELAND SECURITY

Federal Emergency Management Agency

44 CFR Part 67

[Docket ID FEMA-2010-0003; Internal Agency Docket No. FEMA-B-1155]

Proposed Flood Elevation Determinations

AGENCY: Federal Emergency Management Agency, DHS.

ACTION: Proposed rule; correction.

SUMMARY: On November 9, 2010, FEMA published in the Federal Register a proposed rule that included an erroneous community name for Lake Michigan and White Ditch in La Porte County, Indiana. The City of Michiana Shores should have been listed as the Town of Michiana Shores.

DATES: Comments pertaining to the Lake Michigan and White Ditch BFEs for the Town of Michiana Shores are to be submitted on or before August 8, 2011.

ADDRESSES: You may submit comments, identified by Docket No. FEMA-B-1155, to Luis Rodriguez, Chief, Engineering Management Branch, Federal Insurance and Mitigation Administration, Federal Emergency Management Agency, 500 C Street, SW., Washington, DC 20472, (202) 646-4064 or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064 or (e-mail) luis.rodriguez1@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Correction

In the proposed rule published at 75 FR 68744, in the November 9, 2010, issue of the Federal Register, FEMA published a table under the authority of 44 CFR 67.4. The table, entitled “La Porte County, Indiana, and Incorporated Areas” addressed several flooding sources, including Lake Michigan and White Ditch. That table incorrectly listed the City of Michiana Shores among the communities affected by the modified BFEs for Lake Michigan and White Ditch and listed the incorrect name of the community in the list of map repository addresses. The correct name of the community is the Town of Michiana Shores, and its map repository is located at the Town Hall, 601 El Portal South Drive, Michiana Shores, Indiana 46360. This proposed rule correction is reopening the comment period for the modified BFEs for Lake Michigan and White Ditch, for the Town of Michiana Shores, due to the error in listing this community as the City of Michiana Shores in the previously published proposed rule at 75 FR 68744.

(Catalog of Federal Domestic Assistance No. 97.022, “Flood Insurance.”)

Dated: April 8, 2011.
Sandra K. Knight,
Deputy Federal Insurance and Mitigation Administrator, Mitigation, Department of Homeland Security, Federal Emergency Management Agency.

[FR Doc. 2011-11292 Filed 5-9-11; 8:45 am]

BILLING CODE 9110-12-P